DEPARTMENT OF DEFENSE

Department of the Air Force

Notice of Appointment to Selected Non-Federal Entity Boards

AGENCY: Office of The Judge Advocate General, USAF; DoD.

ACTION: Notification of appointment of Air Force officials to selected non-Federal entity boards.

SUMMARY: The Office of The Judge Advocate General, in accordance with 10 U.S.C. 1033 and 10 U.S.C. 1589, announces the appointment of certain Air Force officials to provide limited management support to certain non-Federal entities authorized by statute and by DoD regulation (DoD 5500.7-R, Standards of Conduct, section 3-202). Federal statutes (10 U.S.C. 1033 and 10 U.S.C. 1589) authorize the Service Secretaries to authorize a member of the armed forces or an employee under the Secretary's jurisdiction to serve without compensation as a director, officer, or trustee, or to otherwise participate in the management of certain military welfare societies. In the Air Force, the designated military welfare society is the Air Force Aid Society, Inc. Additionally, 10 U.S.C. 1033 and 10 U.S.C. 1589 permit the Service Secretaries to make appointments to other non-profit non-Federal entities that fall within certain categories. Those categories include entities that regulate and support the athletic programs of the service academies (including athletic conferences) and entities that accredit service academies and other schools of the armed forces (including regional accrediting agencies.) Non-Federal entities in these categories must be predesignated by the Secretary of Defense. The Secretary of Defense's authority for such designations was delegated to the Department of Defense General Counsel, who has designated all of the organizations, and concurred in all of the appointments, listed below. Appointments made under this authority extend to the named officials, as well as to their successors. The authority granted pursuant to these appointments is limited to providing oversight, advice to, and coordination with, the designated entity. Authorization does not extend to participation in day-to-day operations of the entity, nor to the expenditure of appropriated funds (except in direct support of the employee). Expenditures will not include travel and transportation allowances incurred by the employee in a travel status. Finally, participation in the management of the non-Federal entity may not constitute the employee's primary duty.

The Secretary of the Air Force has made the following appointments with the concurrence of the Department of Defense General Counsel:

(1) To the Board of Trustees of the Air Force Aid Society, Inc.: Secretary of the Air Force, F. Whitten Peters; Chief of Staff of the Air Force, General Michael E. Ryan; Deputy Chief of Staff, Personnel, Lieutenant General Donald L. Peterson, The Surgeon General of the Air Force, Lieutenant General Paul K. Carlton, Jr.; The Judge Advocate General of the Air Force, Major General William A. Moorman; Deputy Assistant Secretary of the Air Force (Budget), Major General Larry Northington; and Chief Master Sergeant of the Air Force, Chief Master Sergeant Frederick J. Finch.

(2) To the Mountain West Conference Board of Directors: The United States Air Force Academy Superintendent, Tad J. Oelstrom.

(3) To the Southern Association of Colleges and Schools: Division Chief for Academic Affairs, Air University, Dr. Dorothy Reed; Commandant, School of Advanced Airpower Studies, Colonel Steve Chiabotti; Commander, Community College of the Air Force, Colonel James McBride.

(4) To the Middle States Association of Colleges and Schools: Commander, Air Force Institute of Technology, Colonel George Haritos.

FOR FURTHER INFORMATION, CONTACT: Questions should be mailed to HQ USAF/JAG, 1420 Air Force Pentagon, Washington DC 20330-1420, Attn: Jane Love. Ms Love can be reached by telephone at 703-614-4075, by fax at 703-614-2205, or by e-mail to jane.love@af.pentagon.mil.

Janet A. Long,
Air Force Federal Register Liaison Officer.

[FR Doc. 00-6521 Filed 3-15-00; 8:45 am]

BILLING CODE 5001-05-U